DEPARTMENT OF TRANSPORTATION

Federal Aviation Administration

14 CFR Part 39

[Docket No. FAA-2011-0032; Directorate Identifier 2010-NM-236-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 737-600, -700, -700C, -800, and -900 series airplanes. That NPRM proposed to require inspecting the orientation of both sides of the coil cord connector keyways of the number 2 windows on the flight deck; re-clocking the connector keyways to 12 o'clock, if necessary; and replacing the coil cord assemblies on both number 2 windows on the flight deck. That NPRM was prompted by reports of arcing and smoke at the left number 2 window in the flight deck. This action revises that NPRM by changing the keyway position of certain receptacle connectors and adding airplanes to the applicability. We are proposing this supplemental NPRM (SNPRM) to prevent arcing, smoke, and fire in the flight deck, which could lead to injuries to or incapacitation of the flightcrew. Since these actions impose an additional burden over that proposed in the NPRM, we are reopening the comment period to allow the public the chance to comment on these proposed changes.

DATES: We must receive comments on this supplemental NPRM by August 31, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Louis Natsiopoulos, Aerospace Engineer, Systems and Equipment Branch, ANM-130S, FAA, Seattle Aircraft Certification Office (ACO), 1601 Lind Avenue SW., Renton, WA 98057-3356; phone: 425-917-6478; fax: 425-917-6590; email: Elias.Natsiopoulos@faa.gov.

SUPPLEMENTARY INFORMATION:

Comments Invited

We invite you to send any written relevant data, views, or arguments about this proposed AD. Send your comments to an address listed under the ADDRESSES section. Include “Docket No. FAA-2011-0032; Directorate Identifier 2010-NM-236-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to The Boeing Company Model 737-600, -700, -700C, -800, and -900 series airplanes, as identified in Boeing Special Attention Service Bulletin 737-30-1058, Revision 3, dated July 7, 2010. That NPRM published in the Federal Register on January 26, 2011 (76 FR 4567). That NPRM proposed to require inspecting the orientation of both sides of the coil cord connector keyways of the number 2 windows on the flight deck; re-clocking the connector keyways to 12 o'clock, if necessary; and replacing the coil cord assemblies on both number 2 windows on the flight deck.

Actions Since Previous NPRM (76 FR 4567, January 26, 2011) Was Issued

Since we issued the previous NPRM (76 FR 4567, January 26, 2011), we have received three reports by operators of wire connectors at the two ends of the coil cord rubbing each other. These operators had accomplished the actions described in Boeing Special Attention Service Bulletin 737-30-1058, Revision 3, dated July 7, 2010 (or earlier revisions), which was referred to in the previous NPRM as the appropriate source of service information. The rub condition occurs when the window opens or is in the fully open position. The rub condition can possibly cause damage to the wire connector and the coil cord and cause arcing, smoke, and fire in the flight deck, which could lead to injuries to or incapacitation of the flightcrew. As a result of these findings, Boeing has issued Special Attention Service Bulletin 737-30-1058, Revision 4, dated November 3, 2011, to correct the rubbing condition. The SNPRM will specify Special Attention Service Bulletin 737-30-1058, Revision 4, dated November 3, 2011 as the appropriate source of service information for accomplishing the proposed actions.

This SNPRM also adds airplanes to the applicability, which includes Model 737-900ER airplanes and airplanes that have accomplished the actions of Boeing Special Attention Service Bulletin 737-30-1058, Revision 3, dated July 7, 2010, in production.

Comments

We gave the public the opportunity to comment on the previous NPRM (76 FR 4567, January 26, 2011). The following presents the comments received on the NPRM and the FAA's response to each comment.

Support for Previous NPRM (76 FR 4567, January 26, 2011)

American Airlines (American) and Delta Airlines (Delta) stated they have no objections to the previous NPRM (76 FR 4567, January 26, 2011).

Request To Use Revised Clocking Positions

Boeing requested that clocking of the connectors for the left window be changed to the 9 o'clock position, and the 3 o'clock position for the right window. Boeing stated that this will provide better separation between the two ends of the coiled cord when the windows are in the open position. Boeing stated that Special Attention Service Bulletin 737-30-1058, Revision 3, dated July 7, 2010, will be revised to reflect this change.

We agree. The proposed change prevents coil cord damage resulting from the close proximity of the two ends of the cord when the windows are in the open position. Without this change, the unsafe condition that originally prompted the previous NPRM (76 FR 4567, January 26, 2011) would not be corrected. We have changed the SNPRM to reference the actions specified in Boeing Special Attention Service Bulletin 737-30-1058, Revision 4, dated November 3, 2011.

Request To Revise Certain Service Information

American stated that Paragraph 1.K.1. of Boeing Special Attention Service Bulletin 737-30-1058, Revision 3, dated July 7, 2010, states that the only affected publication is the Boeing Model 737 illustrated parts catalog (IPC). But American pointed out that the wiring diagram manual (WDM) also needs to be revised, because Figures 2 and 7 of Boeing Special Attention Service Bulletin 737-30-1058, Revision 3, dated July 7, 2010, show the new wiring diagram after the installation of the new coil cord assembly.

We agree that the WDM is affected by wiring changes shown in Figures 2 and 7 of Boeing Special Attention Service Bulletin 737-30-1058, Revision 3, dated July 7, 2010. As previously described, we have updated this supplemental NPRM to refer to Boeing Special Attention Service Bulletin 737-30-1058, Revision 4, dated November 3, 2011. Paragraph 1.K.1. of that service bulletin does include the WDM as an affected reference.

Request To Revise Service Information Reference

American stated that, in Figures 4 and 9 of Boeing Special Attention Service Bulletin 737-30-1058, Revision 3, dated July 7, 2010, Section 20-10-11 of the standard wiring practices manual (SWPM) is referenced as an accepted procedure for adjusting the connector keyway if it needs to be re-clocked. American pointed out that this SWPM section does mention connectors, but does not reference clocking of keyways. Therefore, the more appropriate reference would be Section 20-60-06 of the SWPM, which covers the installation of electrical connectors.

We agree that Section 20-10-11 of the SWPM does not provide instructions for setting the keyway or re-clocking the connectors. Those instructions are included in Section 20-60-06 of the SWPM. However, re-clocking or resetting the connector keyway is a misnomer of the intended action. According to Boeing, the intended action in Figures 4 and 9 of Boeing Special Attention Service Bulletin 737-30-1058, Revision 3, dated July 7, 2010, is the repositioning of the connector, not re-clocking or resetting the connector keyway. Boeing Special Attention Service Bulletin 737-30-1058, Revision 4, dated November 3, 2011, deletes the wording “re-clocking or resetting the connector keyway,” and replaces it with text more clearly describing the intended action. As explained previously, we have changed the SNPRM to reference Boeing Special Attention Service Bulletin 737-30-1058, Revision 4, dated November 3, 2011.

FAA's Determination

We are proposing this SNPRM because we evaluated all the relevant information and determined the unsafe condition described previously is likely to exist or develop in other products of the same type design. Certain changes described above expand the scope of the previous NPRM (76 FR 4567, January 26, 2011). As a result, we have determined that it is necessary to reopen the comment period to provide additional opportunity for the public to comment on this SNPRM.

Costs of Compliance

We estimate that this proposed AD will affect 712 airplanes of U.S. registry.

We estimate the following costs to comply with this proposed AD:

Estimated Costs
Action | Labor cost | Parts cost | Cost per product | Number of airplanes | Cost on U.S. operators
Keyway inspection and installation of new cord assemblies on both sides of the flight deck (Group 1, Configuration 1 airplanes) | 6 work-hours × $85 per hour = $510 | $1,608 | $2,118 | 712 | $1,508,016
Adjustment of receptacles on both sides of the flight deck (Group 1, Configuration 1, and Group 2 airplanes) | 4 work-hours × $85 per hour = $340 | 0 | 340 | 404 | 137,360

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-0032; Directorate Identifier 2010-NM-236-AD.

(a) Comments Due Date

We must receive comments by August 31, 2012.

(b) Affected ADs

None.

(c) Applicability

This AD applies to The Boeing Company Model 737-600, -700, -700C, -800, -900, and -900ER series airplanes, certificated in any category, as identified in Boeing Special Attention Service Bulletin 737-30-1058, Revision 4, dated November 3, 2011.

(d) Subject

Joint Aircraft System Component (JASC)/Air Transport Association (ATA) of America Code 30, Ice and Rain Protection.

(e) Unsafe Condition

This AD was prompted by reports of arcing and smoke at the left number 2 window in the flight deck. We are issuing this AD to prevent arcing, smoke, and fire in the flight deck, which could lead to injuries to or incapacitation of the flightcrew.

(f) Compliance

Comply with this AD within the compliance times specified, unless already done.

(g) Inspection and Replacement for Group 1, Configuration 1 Airplanes

For Group 1, Configuration 1 airplanes, as identified in Boeing Special Attention Service Bulletin 737-30-1058, Revision 4, dated November 3, 2011: Within 48 months after the effective date of this AD, do the actions in paragraphs (g)(1) and (g)(2) of this AD.

(1) Do a general visual inspection of the orientation of the coil cord connector keyways on the captain's and first officer's sides of the flight compartment, in accordance with the Accomplishment Instructions of Boeing Special Attention Service Bulletin 737-30-1058, Revision 4, dated November 3, 2011. If the orientation is not at the specified position, before further flight, turn the receptacle connector to the correct position, in accordance with the Accomplishment Instructions of Boeing Special Attention Service Bulletin 737-30-1058, Revision 4, dated November 3, 2011.

(2) Replace the coil cords with new coil cords on both sides of the flight deck, in accordance with the Accomplishment Instructions of Boeing Special Attention Service Bulletin 737-30-1058, Revision 4, dated November 3, 2011.

(h) Inspection and Replacement for Group 1, Configuration 2, and Group 2 Airplanes

For Group 1, Configuration 2, and Group 2 airplanes, as identified in Boeing Special Attention Service Bulletin 737-30-1058, Revision 4, dated November 3, 2011: Within 48 months after the effective date of this AD, install the receptacle connector with changed keyway position on both sides of the flight deck, in accordance with the Accomplishment Instructions of Boeing Special Attention Service Bulletin 737-30-1058, Revision 4, dated November 3, 2011.

(i) Credit for Previous Actions

This paragraph provides credit for the replacement required by paragraph (g)(2) of this AD, if the replacement was performed before the effective date of this AD using the service information specified in paragraph (i)(1), (i)(2), (i)(3), or (i)(4) of this AD, provided that the actions required by paragraph (h) of this AD are done in accordance with Boeing Special Attention Service Bulletin 737-30-1058, Revision 4, dated November 3, 2011, for Group 1, Configuration 2, and Group 2 airplanes.

(1) Boeing Service Bulletin 737-30-1058, dated July 27, 2006, which is not incorporated by reference.

(2) Boeing Service Bulletin 737-30-1058, Revision 1, dated June 18, 2007, which is not incorporated by reference.

(3) Boeing Service Bulletin 737-30-1058, Revision 2, dated February 13, 2009, which is not incorporated by reference.

(4) Boeing Special Attention Service Bulletin 737-30-1058, Revision 3, dated July 7, 2010, which is not incorporated by reference.

(j) Alternative Methods of Compliance (AMOCs)

(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(k) Related Information

(1) For more information about this AD, contact Louis Natsiopoulos, Aerospace Engineer, Systems and Equipment Branch, ANM-130S, FAA, Seattle Aircraft Certification Office (ACO), 1601 Lind Avenue SW., Renton, WA 98057-3356; phone: 425-917-6478; fax: 425-917-6590; email: Elias.Natsiopoulos@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Issued in Renton, Washington, on July 6, 2012.
Kalene C. Yanamura,
Acting Manager, Transport Airplane Directorate, Aircraft Certification Service.

[FR Doc. 2012-17391 Filed 7-16-12; 8:45 am]

BILLING CODE 4910-13-P